DEPARTMENT OF ENERGY

Federal Energy Regulatory Commission

[Docket No. IC04-576-000; FERC-576]

Commission Information Collection Activities, Proposed Collection; Comment Request; Extension

August 16, 2004.

AGENCY: Federal Energy Regulatory Commission, DOE.

ACTION: Notice.

SUMMARY: In compliance with the requirements of Section 3506(c)(2)(a) of the Paperwork Reduction Act of 1995 (Pub. L. 104-13), the Federal Energy Regulatory Commission (Commission) is soliciting public comment on the specific aspects of the information collection described below.

DATES: Comments on the collection of information are due by October 15, 2004.

ADDRESSES: Copies of the proposed collection of information can be obtained from and written comments may be submitted to the Federal Energy Regulatory Commission, Attn: Michael Miller, Office of the Executive Director, ED-30, 888 First Street NE., Washington, DC 20426. Comments may be filed either in paper format or electronically. Those parties filing electronically do not need to make a paper filing. For paper filings, the original and 14 copies of such comments should be submitted to the Office of the Secretary, Federal Energy Regulatory Commission, 888 First Street, NE., Washington, DC 20426 and refer to Docket No. IC04-576-000.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgement to the sender's e-mail address upon receipt of comments.

All comments may be viewed, printed or downloaded remotely via the Internet through FERC's homepage using the eLibrary link. For user assistance, contact FERCOnlineSupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC-576 “Report by Certain Gas Companies of Service Interruptions” (OMB No. 1902-0004) is used by the Commission to implement the statutory provisions of Sections 4, 7, 10 and 16 of the Natural Gas Act (NGA) (Pub. L. 75-688, 52 Stat. 821-833, 15 U.S.C. 717-717w). The Commission is authorized to oversee continuity of service in the transportation of natural gas in interstate commerce. The information collected by FERC-576 notifies the Commission in a timely manner of any interruption of service or possible hazard to public health or safety.

The Commission in response to timely notification of a serious interruption may contact other pipelines to determine available supply, and if required, authorize transportation or construction of facilities to alleviate the problem. The data collected in FERC-576 pertains to serious interruptions of service to any wholesale customer involving facilities operated under certificate authorization from the Commission. Specifically, the data collected may include: (1) Date of service interruption, (2) date of reporting the interruption to the Commission, (3) the location, (4) brief description of facility involved and cause of interruption, (5) customers affected, (6) duration of the interruption, and (7) volumes of gas interrupted.

These data are required by the Commission to provide timely information concerning interruptions to wholesale service. The reporting of these interruptions will assist the Commission and the natural gas industry in fulfilling their obligations to the public to provide better service through increased efficiency and reliability. The data required to be filed for notification of interruptions is specified by 18 Code of Federal Regulations (CFR) 260.9.

Action: The Commission is requesting a three-year extension of the current expiration date, with no changes to the existing collection of data.

Burden Statement: Public reporting burden for this collection is estimated as:

Number of respondents annually (1) | Number of responses per respondent (2) | Average burden hours per response (3) | Total annual burden hours (1)×(2)×(3)
22 | 1 | 1 | 22

The estimated total cost to respondents is $1,133 (22 hours divided by 2,080 hours per employee per year times $107,185 per year average salary (including overhead) per employee = $1,133 (rounded off)). The cost per respondent is equal to $52.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

Linda Mitry,
Acting Secretary.

[FR Doc. E4-1863 Filed 8-19-04; 8:45 am]

BILLING CODE 6717-01-P